DEPARTMENT OF JUSTICE

Drug Enforcement Administration

James Orrington, II, D.D.S.; Decision and Order

On May 23, 2025, the Drug Enforcement Administration (DEA or Government) issued an Order to Show Cause (OSC) to James Orrington, II, D.D.S., of Chicago, Illinois (Registrant). Request for Final Agency Action (RFAA), Exhibit (RFAAX) 1, at 1, 4. The OSC proposed the revocation of Registrant's DEA Certificate of Registration, No. BO7484811, alleging that Registrant is “currently without authority to . . . handle controlled substances in the State of Illinois, the state in which [he is] registered with DEA.” Id. at 2 (citing 21 U.S.C. 824(a)(3)).

The OSC notified Registrant of his right to file a written request for hearing, and that if he failed to file such a request, he would be deemed to have waived his right to a hearing and be in default. Id. at 2-3 (citing 21 CFR 1301.43). Here, Registrant did not request a hearing and the Agency finds that he is in default. RFAA, at 2-3.¹ “A default, unless excused, shall be deemed to constitute a waiver of the registrant's/applicant's right to a hearing and an admission of the factual allegations of the [OSC].” 21 CFR 1301.43(e).

¹ Based on the Government's submissions in its RFAA dated August 15, 2025, the Agency finds that service of the OSC on Registrant was adequate. The included declaration from a DEA Diversion Investigator (DI) indicates that on May 30, 2025, DI unsuccessfully attempted to contact Registrant via phone to coordinate service of the OSC. RFAAX 2, at 1. On June 4, 2025, DI attempted to personally serve Registrant at his registered address, but was also unsuccessful. Id. On June 9, 2025, DI mailed a copy of the OSC to Registrant's registered address, which was not returned as undeliverable. Id. Finally, on June 17, 2025, DI emailed a copy of the OSC to Registrant via his registered email address. Id. at 2. DI's email was not returned as undeliverable and Registrant never responded. Id. The Agency has consistently held that when all other forms of service have been attempted and found to be unsuccessful, service by email that is not returned as undeliverable satisfies due process requirements. See Mohammed S. Aljanaby, M.D., 82 FR 34552, 34552 (2017); Emilio Luna, M.D., 77 FR 4829, 4830 (2012); see also Jones v. Flowers, 547 U.S. 220, 226 (2006) (due process requires “notice reasonably calculated, under all the circumstances, to apprise interested parties of the pendency of the action and afford them an opportunity to present their objections”). Accordingly, the Agency finds that the Government's service of the OSC on Registrant was adequate.

Further, “[i]n the event that a registrant . . . is deemed to be in default . . . DEA may then file a request for final agency action with the Administrator, along with a record to support its request. In such circumstances, the Administrator may enter a default final order pursuant to [21 CFR] 1316.67.” Id. at 1301.43(f)(1). Here, the Government has requested final agency action based on Registrant's default pursuant to 21 CFR 1301.43(c), (f), and 1301.46. RFAA, at 1; see also 21 CFR 1316.67.

Findings of Fact

The Agency finds that, in light of Registrant's default, the factual allegations in the OSC are deemed admitted. According to the OSC, Registrant's Illinois dental and controlled substance licenses were suspended on May 23, 2024. RFAAX 1, at 1-2; see also RFAAX 3, at 2. According to Illinois online records, of which the Agency takes official notice,² Registrant's Illinois licenses have a status of “Suspended.” Illinois DFPR License Search, https://online-dfpr.micropact.com/lookup/licenselookup.aspx (last visited date of signature of this Order). Accordingly, the Agency finds that Registrant is not licensed as a practitioner in Illinois, the state in which he is registered with DEA.³

² Under the Administrative Procedure Act, an agency “may take official notice of facts at any stage in a proceeding—even in the final decision.” United States Department of Justice, Attorney General's Manual on the Administrative Procedure Act 80 (1947) (Wm. W. Gaunt & Sons, Inc., Reprint 1979).

³ Pursuant to 5 U.S.C. 556(e), “[w]hen an agency decision rests on official notice of a material fact not appearing in the evidence in the record, a party is entitled, on timely request, to an opportunity to show the contrary.” The material fact here is that Registrant, as of the date of this Order, is not licensed as a dentist or otherwise authorized to handle controlled substances in Illinois. Accordingly, Registrant may dispute the Agency's finding by filing a properly supported motion for reconsideration of findings of fact within fifteen calendar days of the date of this Order. Any such motion and response shall be filed and served by email to the other party and to the Office of the Administrator, Drug Enforcement Administration, at dea.addo.attorneys@dea.gov.

Discussion

Pursuant to 21 U.S.C. 824(a)(3), the Attorney General may suspend or revoke a registration issued under 21 U.S.C. 823 “upon a finding that the registrant . . . has had his State license or registration suspended . . . [or] revoked . . . by competent State authority and is no longer authorized by State law to engage in the . . . dispensing of controlled substances.” With respect to a practitioner, DEA has also long held that the possession of authority to dispense controlled substances under the laws of the state in which a practitioner engages in professional practice is a fundamental condition for obtaining and maintaining a practitioner's registration. Gonzales v. Oregon, 546 U.S. 243, 270 (2006) (“The Attorney General can register a physician to dispense controlled substances `if the applicant is authorized to dispense . . . controlled substances under the laws of the State in which he practices.' . . . The very definition of a `practitioner' eligible to prescribe includes physicians `licensed, registered, or otherwise permitted, by the United States or the jurisdiction in which he practices' to dispense controlled substances. [21 U.S.C.] 802(21).”). The Agency has applied these principles consistently. See, e.g., James L. Hooper, M.D., 76 FR 71371, 71372 (2011), pet. for rev. denied, 481 F. App'x 826 (4th Cir. 2012); Frederick Marsh Blanton, M.D., 43 FR 27616, 27617 (1978).⁴

⁴ This rule derives from the text of two provisions of the Controlled Substances Act (CSA). First, Congress defined the term “practitioner” to mean “a physician . . . or other person licensed, registered, or otherwise permitted, by . .. the jurisdiction in which he practices . . ., to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess state authority in order to be deemed a practitioner under the CSA, DEA has held repeatedly that revocation of a practitioner's registration is the appropriate sanction whenever he is no longer authorized to dispense controlled substances under the laws of the state in which he practices. See, e.g., James L. Hooper, M.D., 76 FR at 71371-72; Sheran Arden Yeates, M.D., 71 FR 39130, 39131 (2006); Dominick A. Ricci, M.D., 58 FR 51104, 51105 (1993); Bobby Watts, M.D., 53 FR 11919, 11920 (1988); Frederick Marsh Blanton, M.D., 43 FR at 27617.

According to Illinois statute, “dispense” means “to deliver a controlled substance to an ultimate user or research subject by or pursuant to the lawful order of a prescriber, including the prescribing, administering, packaging, labeling, or compounding necessary to prepare the substance for that delivery.” 720 ILCS 570/102(p) (2025). Further, a “practitioner” means a “dentist . . . or other person licensed, registered, or otherwise lawfully permitted by . . . [Illinois] to distribute, dispense, conduct research with respect to, [or] administer . . . a controlled substance in the course of professional practice or research.” Id. at 570/102(kk).

Here, the undisputed evidence in the record is that Registrant is not a currently licensed practitioner in Illinois. As discussed above, a dentist must be a licensed practitioner to dispense a controlled substance in Illinois. Thus, because Registrant's dental and controlled substance licenses are suspended in Illinois and, therefore, he is not currently authorized to handle controlled substances in Illinois, Registrant is not eligible to maintain a DEA registration in Illinois. Accordingly, the Agency will order that Registrant's DEA registration be revoked.

Order

Pursuant to 28 CFR 0.100(b) and the authority vested in me by 21 U.S.C. 824(a), I hereby revoke DEA Certificate of Registration No. BO7484811 issued to James Orrington, II, D.D.S. Further, pursuant to 28 CFR 0.100(b) and the authority vested in me by 21 U.S.C. 823(g)(1), I hereby deny any pending applications of James Orrington, II, D.D.S., to renew or modify this registration, as well as any other pending application of James Orrington, II, D.D.S., for additional registration in Illinois. This Order is effective November 19, 2025.

Signing Authority

This document of the Drug Enforcement Administration was signed on October 9, 2025, by Administrator Terrance Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-19597 Filed 10-17-25; 8:45 am]

BILLING CODE 4410-09-P